CONSUMER PRODUCT SAFETY COMMISSION

[Docket No. CPSC-2009-0044]

Agency Information Collection Activities; Submission for OMB Review; Comment Request; Standard for Cigarette Lighters

AGENCY: U.S. Consumer Product Safety Commission.

ACTION: Notice.

SUMMARY: As required by the Paperwork Reduction Act of 1995, the Consumer Product Safety Commission (CPSC or Commission), announces that the Commission has submitted to the Office of Management and Budget (OMB) a request for extension of approval for a collection of information from manufacturers and importers of disposable and novelty cigarette lighters. This collection of information consists of testing and recordkeeping requirements in regulations implementing the Safety Standard for Cigarette Lighters, approved previously under OMB Control No. 3041-0116. On July 25, 2022, CPSC published a notice in the Federal Register announcing the agency's intent to seek this extension. CPSC received no comments in response to that notice. Therefore, by publication of this notice, the Commission announces that CPSC has submitted to the OMB a request for extension of approval of this collection of information.

DATES: Written comments on this request for extension of approval of information collection requirements should be submitted by November 7, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2009-0044.

FOR FURTHER INFORMATION CONTACT: Cynthia Gillham, Consumer Product Safety Commission, 4330 East West Highway, Bethesda, MD 20814; (301) 504-7991, or by email to: cgillham@cpsc.gov.

SUPPLEMENTARY INFORMATION: On July 25, 2022, CPSC published a notice in the Federal Register announcing the agency's intent to seek an extension for this information collection. 87 FR 44106. CPSC received no comments in response to that notice. Accordingly, CPSC seeks to renew the following currently approved collection of information:

Title: Safety Standard for Cigarette Lighters.

OMB Number: 3041-0116.

Type of Review: Renewal of collection.

Frequency of Response: On occasion.

Affected Public: Manufacturers and importers of cigarette lighters.

Estimated Number of Respondents: In 2021, 30 firms submitted information to the CPSC on 143 lighter models. There were 4 new lighter models and 139 lighters that were comparable to models previously tested (“comparison lighters”).

Estimated Time per Response: The burden associated with the standard includes the time and cost spent testing and maintaining the test records, either by the firm or by outside contractors. If the firm elects to use an outside contractor, the cost of testing per model is estimated to be about $25,000 on average. If 4 new lighter models are introduced each year and tested by outside contractors, the annual cost would be about $100,000. If tests instead are conducted in-house, testing new lighter models is expected to take about 90 hours per model. The total testing time for the 4 models would be 360 hours (90 hours × 4 models). Recordkeeping consists of two separate components: recordkeeping for new lighter models, and recordkeeping for comparison lighters.

New Lighter Models—The time burden for recordkeeping for new lighter models is estimated at 20 hours per model. The total time for recordkeeping is estimated to be 80 hours (20 hours × 4 models).

Comparison Lighters—Firms may also submit comparison lighters to demonstrate compliance with the standard. In 2021, 139 comparison lighters were reported to the CPSC. Although firms bear no testing costs for comparison lighters, the burden hours for recordkeeping have been estimated at 3 hours per model. Thus, an estimated 417 hours (139 models × 3 hours) is estimated for recordkeeping for comparison lighters.

Reporting Requirements—Approximately 1 hour will be required for firms to submit forms to CPSC per model, for a total annual reporting burden on 143 hours (143 models × 1 hour).

Total Estimated Annual Burden: The annual total number of hours could be as high as 1000 hours (360 testing + 497 recordkeeping hours + 143 reporting hours) per year. If some firms elect to outsource testing of new models, there may be fewer burden hours. The CPSC estimates the total cost for firms to test, and prepare, maintain, and submit records to the CPSC in compliance with the lighter regulation would be in the range of $47,859 to $122,515, depending upon whether the testing is done in-house or through outsourcing.

General Description of Collection: In 1993, the CPSC issued the Safety Standard for Cigarette Lighters (16 CFR part 1210) under the Consumer Product Safety Act (CPSA) (15 U.S.C. 2051 et seq.) to eliminate or reduce risks of death and burn injury from fires accidentally started by children playing with cigarette lighters. The standard requires certain test protocols, as well as recordkeeping and reporting requirements. 16 CFR part 1210, subpart B. In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program.

Alberta E. Mills,
Secretary, Consumer Product Safety Commission.

[FR Doc. 2022-21668 Filed 10-5-22; 8:45 am]

BILLING CODE 6355-01-P